DEPARTMENT OF THE TREASURY

Submission for OMB Review; Comment Request

May 21, 2004.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before June 28, 2004, to be assured of consideration.

Internal Revenue Service (IRS)

OMB Number: 1545-1068.

Regulation Project Number: INTL-362-88 Final.

Type of Review: Extension.

Title: Definition of a Controlled Foreign Corporation, Foreign Base Company Income, and Foreign Personal Holding Company Income of a Controlled Foreign Corporation.

Description: The election and recordkeeping requirements are necessary to exclude certain high-taxed or active business income from subpart F income or to include certain income in the appropriate category of subpart F income. The recordkeeping and election procedures allow the U.S. shareholders and the IRS to know the amount of the controlled foreign corporation's subpart F income.

Respondents: Business or other for-profit.

Estimated Number of Respondents/Recordkeepers: 50,500.

Estimated Burden Hours Respondent/Recordkeeper: 1 hour.

Frequency of response: Other (one-time currency election).

Estimated Total Reporting/Recordkeeping Burden: 50,417 hours.

OMB Number: 1545-1443.

Regulation Project Number: PS-25-94 Final.

Type of Review: Extension.

Title: Requirements to Ensure Collection of Section 2050A Estate tax (TD 8686).

Description: The regulation provides guidance relating to the additional requirements necessary to ensure the collection of the estate tax imposed under section 2056A(b) with respect to taxable events involving qualified domestic trusts (QDOT's). In order to ensure collection of the tax, the regulation provides various security options that may be selected by the trust and the requirements associated with each option. In addition, under certain circumstances the trust is required to file an annual statement with the IRS disclosing the assets held by the trust.

Respondents: Individuals or households.

Estimated Number of Respondents: 4,390.

Estimated Burden Hours Respondent: 1 hour, 23 minutes.

Estimated Total Reporting Burden: 6,070 hours.

Clearance Officer: Glenn P. Kirkland, (202) 622-3428, Internal Revenue Service, Room 6411-03, 1111 Constitution Avenue, NW., Washington, DC 20224.

OMB Reviewer: Joseph F. Lackey, Jr., (202) 395-7316, Office of Management and Budget, Room 10235, New Executive Office Building, Washington, DC 20503.

Lois K. Holland,
Treasury PRA Clearance Officer.

[FR Doc. 04-12094 Filed 5-27-04; 8:45 am]

BILLING CODE 4830-01-P